DEPARTMENT OF ENERGY

Federal Energy Regulatory Commission

Combined Notice of Filings #1

Take notice that the Commission received the following electric corporate filings:

Docket Numbers: EC26-65-000.

Applicants: Alton Post Office Solar, LLC, AM Wind Repower LLC, Aspen Road Solar 1, LLC, Bitter Ridge Wind Farm, LLC, Black Mesa Energy, LLC, Black Mesa Interconnection, LLC, Crystal Hill Solar, LLC, Egypt Road Solar, LLC, Foxglove Solar Project, LLC, Franklin Solar LLC, Goose Prairie Solar LLC, Jackpot Holdings, LLC, Jones Farm Lane Solar, LLC, Mesa Wind Power LLC, Morgnec Road Solar, LLC, North Allegheny Wind, LLC, North Rosamond Solar, LLC, Pike Solar LLC, Spanish Peaks Solar LLC, Spring Grove Solar II, LLC, Sweetland Wind Farm, LLC, Wildflower Solar, LLC, Mustang Yieldco Acquirer LLC.

Description: Joint Application for Authorization Under Section 203 of the Federal Power Act of Alton Post Office Solar, LLC, et al.

Filed Date: 2/11/26.

Accession Number: 0260211-5147.

Comment Date: 5 p.m. ET 3/4/26.

Docket Numbers: EC26-66-000.

Applicants: Alliance NYGT, LLC, Seneca Power Partners, L.P., Sterling Power Partners, L.P., Power City Partners, L.P.

Description: Joint Application for Authorization Under Section 203 of the Federal Power Act of Alliance NYGT, LLC, et al.

Filed Date: 2/17/26.

Accession Number: 20260217-5313.

Comment Date: 5 p.m. ET 3/10/26.

Take notice that the Commission received the following exempt wholesale generator filings:

Docket Numbers: EG26-157-000.

Applicants: Gunnar Reliability Project LLC.

Description: Gunnar Reliability Project LLC submits Notice of Self-Certification of Exempt Wholesale Generator Status.

Filed Date: 2/18/26.

Accession Number: 20260218-5122.

Comment Date: 5 p.m. ET 3/11/26.

Take notice that the Commission received the following electric rate filings:

Docket Numbers: ER10-2374-024; ER17-2059-016.

Applicants: Puget Sound Energy, Inc., Puget Sound Energy, Inc.

Description: Notice of Non-Material Change in Status of Puget Sound Energy, Inc, et al.

Filed Date: 2/2/26.

Accession Number: 20260202-5293.

Comment Date: 5 p.m. ET 2/23/26.

Docket Numbers: ER10-3028-008.

Applicants: Elk Hills Power, LLC.

Description: Notice of Non-Material Change in Status of Elk Hills Power, LLC.

Filed Date: 2/2/26.

Accession Number: 20260202-5292.

Comment Date: 5 p.m. ET 2/23/26.

Docket Numbers: ER20-2054-000.

Applicants: ISO New England Inc., Central Maine Power Company, Versant Power, Fitchburg Gas and Electric Light Company, Green Mountain Power Corporation, New England Power Company, New Hampshire Transmission, LLC, NSTAR Electric Company, Public Service Company of New Hampshire, The Connecticut Light and Power Company, The United Illuminating Company, Unitil Energy Systems, Inc., Vermont Electric Cooperative, Inc., Vermont Transco LLC.

Description: Formal Challenge of the New England States Committee on Electricity, Inc. to Central Maine Power Company's Rate Schedules included in the Annual Update filed by Participating Transmission Owners Administrative Committees on 07/31/2025.

Filed Date: 2/9/26.

Accession Number: 20260209-5175.

Comment Date: 5 p.m. ET 3/2/26.

Docket Numbers: ER21-2510-003; ER21-2511-003; ER24-697-004; ER24-698-004.

Applicants: Castanea Project, LLC, Westlands Solar Blue (OZ) Owner, LLC, Aquamarine Lessee, LLC, Aquamarine Westside, LLC.

Description: Notice of Non-Material Change in Status of Aquamarine Westside, LLC, et al.

Filed Date: 2/3/26.

Accession Number: 20260203-5175.

Comment Date: 5 p.m. ET 2/24/26.

Docket Numbers: ER23-1583-004; ER25-152-003; ER24-1738-004; ER24-1593-003.

Applicants: Randolph Solar Park LLC, Ragsdale Solar, LLC, Pleasantville Solar Park LLC, Indiana Crossroads Wind Farm II LLC.

Description: Notice of Non-Material Change in Status of Indiana Crossroads Wind Farm II LLC, et al.

Filed Date: 2/2/26.

Accession Number: 20260202-5295.

Comment Date: 5 p.m. ET 2/23/26.

Docket Numbers: ER24-548-005; ER10-3057-010.

Applicants: Dow Pipeline Company, Dow Hydrocarbons and Resources LLC.

Description: Notice of Non-Material Change in Status of Dow Hydrocarbons and Resources LLC, et al.

Filed Date: 2/6/26.

Accession Number: 20260206-5193.

Comment Date: 5 p.m. ET 2/27/26.

Docket Numbers: ER25-1317-006; ER25-1349-007.

Applicants: Sebree Solar, LLC, Salt Creek Wind LLC, Mammoth Plains Wind, LLC.

Description: Notice of Change in Status of Salt Creek Wind LLC, et al.

Filed Date: 2/2/26.

Accession Number: 20260202-5294.

Comment Date: 5 p.m. ET 2/23/26.

Docket Numbers: ER25-3063-000.

Applicants: New Wave Energy, LLC.

Description: Supplement to 07/31/2025, Change in Status, Change in Category Seller Status, & Revised MBR Tariff.

Filed Date: 2/10/26.

Accession Number: 20260210-5207.

Comment Date: 5 p.m. ET 3/3/26.

Docket Numbers: ER26-724-000.

Applicants: MEC Phase 1, LLC.

Description: Supplement to 12/11/2025, MEC Phase 1, LLC, tariff filing.

Filed Date: 2/9/26.

Accession Number: 20260209-5168.

Comment Date: 5 p.m. ET 2/27/26.

Docket Numbers: ER26-849-000; ER26-850-000; ER26-851-000.

Applicants: IP Easley II, LLC, IP Easley, LLC, IP Aramis, LLC.

Description: Supplement to 12/22/2025, IP Aramis, LLC, tariff filing.

Filed Date: 2/9/26.

Accession Number: 20260209-5171.

Comment Date: 5 p.m. ET 2/20/26.

Docket Numbers: ER26-1138-001.

Applicants: Consumers Energy Company.

Description: Correction re: Cost Recover Filing of Consumers Energy Company.

Filed Date: 2/13/26.

Accession Number: 20260213-5168.

Comment Date: 5 p.m. ET 3/6/26.

Docket Numbers: ER26-1425-000.

Applicants: American Transmission Systems, Incorporated.

Description: § 205(d) Rate Filing: ATSI submits a Construction Agmt—SA No. 7355 to be effective 4/20/2026.

Filed Date: 2/18/26.

Accession Number: 20260218-5023.

Comment Date: 5 p.m. ET 3/11/26.

Docket Numbers: ER26-1426-000.

Applicants: Duquesne Light Company.

Description: § 205(d) Rate Filing: Duquesne Order No. 898 Rate Filing to be effective 1/1/2025.

Filed Date: 2/18/26.

Accession Number: 20260218-5024.

Comment Date: 5 p.m. ET 3/11/26.

Docket Numbers: ER26-1427-000.

Applicants: Wabash Valley Transmission Holdings, LLC.

Description: § 205(d) Rate Filing: Formula Rate Baseline to be effective 4/20/2026.

Filed Date: 2/18/26.

Accession Number: 20260218-5065.

Comment Date: 5 p.m. ET 3/11/26.

Docket Numbers: ER26-1428-000.

Applicants: NorthWestern Corporation.

Description: § 205(d) Rate Filing: Single Issue Depreciation Filing to be effective 1/1/2026.

Filed Date: 2/18/26.

Accession Number: 20260218-5068.

Comment Date: 5 p.m. ET 3/11/26.

Docket Numbers: ER26-1429-000.

Applicants: PJM Interconnection, L.L.C.

Description: § 205(d) Rate Filing: Cancellation of Engineering & Procurement Agreement, SA No. 7739; Proje to be effective 1/14/2026.

Filed Date: 2/18/26.

Accession Number: 20260218-5088.

Comment Date: 5 p.m. ET 3/11/26.

Docket Numbers: ER26-1430-000.

Applicants: Midcontinent Independent System Operator, Inc., ITC Midwest LLC.

Description: § 205(d) Rate Filing: ITC Midwest LLC submits tariff filing per 35.13(a)(2)(iii: 2026-02-18_SA 4684 ITC Midwest-Interstate Power & Light E&P (J1867) to be effective 2/9/2026.

Filed Date: 2/18/26.

Accession Number: 20260218-5104.

Comment Date: 5 p.m. ET 3/11/26.

Docket Numbers: ER26-1431-000.

Applicants: New York Independent System Operator, Inc.

Description: § 205(d) Rate Filing: NYISO 205: Winter Reliability Capacity Enhancements to be effective 4/20/2026.

Filed Date: 2/18/26.

Accession Number: 20260218-5130.

Comment Date: 5 p.m. ET 3/11/26.

Take notice that the Commission received the following foreign utility company status filings:

Docket Numbers: FC26-9-000.

Applicants: Asia Environmental Companies.

Description: Asia Environmental Companies submit Notice of Self-Certification of Foreign Utility Company Status.

Filed Date: 2/18/26.

Accession Number: 20260218-5073.

Comment Date: 5 p.m. ET 3/11/26.

Docket Numbers: FC26-10-000.

Applicants: Atlantic Power Canada Companies.

Description: Atlantic Power Canada Companies submit Notice of Self-Certification of Foreign Utility Company Status.

Filed Date: 2/18/26.

Accession Number: 20260218-5102.

Comment Date: 5 p.m. ET 3/11/26.

Docket Numbers: FC26-11-000.

Applicants: Energia Companies.

Description: Energia Companies submit Notice of Self-Certification of Foreign Utility Company Status.

Filed Date: 2/18/26.

Accession Number: 20260218-5112.

Comment Date: 5 p.m. ET 3/11/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 18, 2026.
Carlos D. Clay,
Deputy Secretary.

[FR Doc. 2026-03505 Filed 2-20-26; 8:45 am]

BILLING CODE 6717-01-P